DEPARTMENT OF DEFENSE

Department of the Army

Department of Defense Historical Advisory Committee; Meeting

AGENCY: Department of the Army, DoD.

ACTION: Notice of open meeting.

SUMMARY: In accordance with Section 10(a) (2) of the Federal Advisory Committee Act (Pub. L. 92-463), announcement is made of the following committee meeting.

Name of Committee: Department of the Army Historical Advisory Committee.

Date: October 25, 2007.

Time: 9 a.m. to 4:30 p.m.

Place: U.S. Army Center of Militry History Collins Hall, Building 35, 103 Third Avenue, Fort McNair, Washington, DC 20319-5058.

Proposed Agenda: Review and discussion of the status of historical activities in the United States Army.

FOR FURTHER INFORMATION CONTACT: Dr. Richard Stewart, U.S. Army Center of Military History, ATTN: DAMH-ZC, 103 Third Avenue, Fort McNair, Washington, DC 20319-5058; telephone number (202) 685-2709.

SUPPLEMENTARY INFORMATION: The committee will review the Army's historical activities for FY 1007 and those projected for FY 2008 based upon reports and manuscript received throughout the period. And the committee will formulate recommendations through the Chief of Military History to the Chief of Staff, Army and the Secretary of the Army for advancing the use of history in the U.S. Army.

The meeting of the Advisory Committee is open to the public. Because of the restricted meeting space, however, attendance may be limited to those persons who have notified the Advisory Committee Management Office in writing at least five days prior to the meeting of their intention to attend the October 25, 2007 meeting. Notifications should be addressed to the Executive Secretary of the committee, Dr. William Stivers, at the U.S. Army Center of Military History, 103 Third Avenue, Fort Lesley J. McNair, Washington, DC 20-319-5058.

Any member of the public may file a written statement with the committee before, during, or after the meting. Such statements may be sent to the Executive Secretary of the Committee at the Address shown in the paragraph above. To the extent that time permits, the committee chairman may allow public presentations or oral statements at the meeting.

Dated: September 5, 2007.
Richard W. Stewart,
Chief Historian, Center of Military History.

[FR Doc. 07-4694 Filed 9-20-07; 8:45 am]

BILLING CODE 3710-08-M